NUCLEAR REGULATORY COMMISSION

[Docket No. 50-391-OL; ASLBP No. 09-893-01-OL-BD01]

Notice of Atomic Safety And Licensing Board Reconstitution, Tennessee Valley Authority (Watts Bar, Unit 2)

Pursuant to 10 CFR 2.313(c) and 2.321(b), the Atomic Safety and Licensing Board (Board) in the above-captioned Watts Bar, Unit 2 operating license application proceeding is hereby reconstituted by appointing Administrative Judge Paul S. Ryerson to serve on the Board as Chairman in place of Administrative Judge Lawrence G. McDade.

All correspondence, documents, and other materials shall continue to be filed in accordance with the NRC E-Filing rule. See 10 CFR 2.302 et seq.

Issued at Rockville, Maryland this 16th day of November 2012.
E. Roy Hawkens,
Chief Administrative Judge, Atomic Safety and Licensing Board Panel.

[FR Doc. 2012-29004 Filed 11-29-12; 8:45 am]

BILLING CODE 7590-01-P